DEPARTMENT OF TRANSPORTATION

Federal Railroad Administration

[Docket Number FRA-2015-0004]

Notice of Application for Approval of Discontinuance or Modification of a Railroad Signal System

Under part 235 of Title 49 of the Code of Federal Regulations (CFR) and 49 U.S.C. 20502(a), this document provides the public notice that on February 10, 2017, CSX Transportation, Inc. (CSX) petitioned the Federal Railroad Administration (FRA) seeking approval for the discontinuance or modification of a signal system. FRA assigned the petition Docket Number FRA-2015-0004.

Applicant: CSX Transportation, Inc., Mr. Jody Cox, Chief Engineer Communications & Signals, 500 Water Street, Speed Code J-350, Jacksonville, FL 32202.

On August 10, 2015, FRA granted conditional approval to CSX's block signal application under Docket Number FRA-2015-0004, which sought approval of the proposed discontinuance of an automatic block signal (ABS) system between control point (CP) Mitchell, milepost (MP) OOQ 256.0 and CP NE Vernia, MP OOQ 314.6, on the Hoosier Subdivision, Louisville Division, at Mitchell, IN. The conditions of approval were:

1. CSX may retire the signal system in place for a time period not to exceed 2 years from August 10, 2015.

2. Traffic levels are to be tracked to identify any change.

3. Distant approach signals to CP Mitchell and NE Vernia are to be installed.

4. CSX must notify FRA's regional office when the signal system is retired in place.

5. CSX may request permanent discontinuance of the signal system 6 months prior to the expiration of the 2-year period.

In the February 10, 2017, letter CSX requests permanent discontinuance of the signal system as defined in Condition 5 of FRA's August 10, 2015, conditional approval. CSX will comply with Conditions 3 and 4 upon approval of a permanent discontinuance.

The reason for the proposed discontinuance is that ABS is no longer needed due to traffic level reductions. The subdivision is being used for storage only. The Hoosier Subdivision has been out of service since the Surface Transportation Board approved the discontinuance of service, in April 2010. There has been no traffic in 2015 or 2016 over this segment. The ABS will be discontinued and replaced with track warrant control D-505 rules.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 25, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety Chief Safety Officer.

[FR Doc. 2017-07012 Filed 4-7-17; 8:45 am]

BILLING CODE 4910-06-P